DEPARTMENT OF EDUCATION

Advisory Committee on Student Financial Assistance: Meeting

AGENCY: Advisory Committee on Student Financial Assistance, Education.

ACTION: Notice of Upcoming Teleconference Meeting; Correction.

SUMMARY: This document contains corrections for the notice that was published in the Federal Register of Thursday, July 24, 2008 (Volume 73, Number 143), [Page 43214-43215]. The topic of the conference call has been changed.

DATES: Wednesday, September 10, 2008, beginning at 3 p.m. and ending at approximately 6 p.m.

SUPPLEMENTARY INFORMATION: This notice should read as follows: The conference call scheduled for September 10 will be a continuation of the August 19 conference call to discuss the following topics: (1) Nomination and selection process for the Committee's officers and (2) the implications of HEA reauthorization for the Committee's activities and plans in FY2009. The election of officers will be scheduled for a later date.

Dated: July 25, 2008.
Dr. William J. Goggin,
Executive Director, Advisory Committee on Student Financial Assistance.

[FR Doc. E8-17526 Filed 7-30-08; 8:45 am]

BILLING CODE 4000-01-P